DEPARTMENT OF JUSTICE

Antitrust Division

Notice Pursuant to the National Cooperative Research and Production Act of 1993—Semiconductor Test Consortium, Inc.

Notice is hereby given that, on May 27, 2003, pursuant to section 6(a) of the National Cooperative Research and Production Act of 1993, 15 U.S.C. 4301 et seq. (“the Act”), Semiconductor Test Consortium, Inc. has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Advantest Corporation, Tokyo, JAPAN; Intel Corporation, Chandler, AZ; and Motorola, Inc., Austin, TX. The nature and objectives of the venture are to administer the development, support and promotion of the specifications of Open Semiconductor Test Architecture (“OPENSTAR”), a testing standard which defines a flexible testing platform for complex logic devices for use in the semiconductor and automated test equipment industries. The mission of Semiconductor Test Consortium, Inc. is to support the development and long-term success of OPENSTAR, including the delivery of technical and economic performance sustainability, open architecture, and multi-vendor interoperability at both the hardware and software levels. Semiconductor Test Consortium, Inc. shall achieve this mission by developing and promoting its open architecture specifications as industry-wide standards, issuing design guidelines relating to its specifications, presenting activities that promote the use of the specifications, and providing for the licensing or publication of the specifications on reasonable and non-discriminatory terms to both members and non-members alike.

Constance K. Robinson,
Director of Operations, Antitrust Division.

[FR Doc. 03-15182 Filed 6-16-03; 8:45 am]

BILLING CODE 4410-11-M